DEPARTMENT OF LABOR

Employment and Training Administration

[TA-W-53,337]

De Machine Shop, Berthoud, CO; Notice of Termination of Investigation

Pursuant to section 221 of the Trade Act of 1974, as amended, an investigation was initiated on October 24, 2003, in response to a petition filed by a worker on behalf of workers at De Machine Shop, Berthoud, Colorado.

The petitioner has requested that the petition be withdrawn. Consequently, the investigation has been terminated.

Signed at Washington, DC, this 26th day of November, 2003.
Elliott S. Kushner,
Certifying Officer, Division of Trade Adjustment Assistance.

[FR Doc. 03-32277 Filed 12-31-03; 8:45 am]

BILLING CODE 4510-30-P